DEPARTMENT OF DEFENSE

Department of the Army

Proposed Collection; Comment Request

AGENCY: Office of the Administrative Assistant to the Secretary of the Army, (OAA-RPA), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of the automated collection techniques or other forms of information technology.

DATES: Consideration will be given to all comments received by March 13, 2006.

ADDRESSES: Written comments and recommendations on the proposed information collection should be sent to Department of the Army, Office of the Assistant G-1 (Civilian Personnel Evaluation Agency), ATTN: DAPE-CP-EA (Murray Mack), 2461 Eisenhower Avenue, Hoffman I, Room 1150, Alexandria, VA 22332-0300.

Consideration will be given to all comments received within 60 days of the date of publication of this notice.

FOR FURTHER INFORMATION CONTACT: To request more information on this proposed information collection or to obtain a copy of the proposal and associated collection instruments, please write to the above address, or call Department of the Army Reports clearance officer at (701) 428-6440.

Title and OMB Number: Evaluation of Reasons for Non-Acceptance of Department of Army Civilian Job Offers, OMB Control Number 0702-0118.

Needs and Uses: Applicants for Department of the Army civilian jobs will be surveyed to assess reasons why they declined Army job offers. The purpose of the survey is to provide a better understanding and determine which factors influenced job candidate to decline a position with the Department of the Army so that these factors may be addressed and subsequently lead to a better work force.

Affected Public: Individuals or households.

Annual Burden hours: 292.

Number of Respondents: 2,500.

Responses Per Respondent: 1.

Average Burden Per Response: 7 minutes.

Frequency: Semi-annually.

SUPPLEMENTARY INFORMATION: This information collection will provide a deeper understanding of the problems the Army faces in recruiting talented and qualified employees. The Department of the Army has a special interest in maintaining a qualified work force in that our national security rests on a foundation of good, capable, knowledgeable people working for the Department of the Army.

Dated: January 3, 2006.
Patricia L. Toppings,
Alternate OSD Federal Register Liaison Officer, Department of Defense.

[FR Doc. 06-221 Filed 1-10-06; 8:45 am]

BILLING CODE 5001-06-M